DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2014, there were two applications approved. This notice also includes information on one application, approved in October 2013, inadvertently left off the October 2013 notice. Additionally, three approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

PUBLIC AGENCY: County of Monroe, Rochester, New York.

APPLICATION NUMBER: 13-05-C-00-ROC.

APPLICATION TYPE: Impose and use a PFC.

PFC LEVEL: $4.50.

TOTAL PFC REVENUE APPROVED IN THIS DECISION: $30,580,000.

EARLIEST CHARGE EFFECTIVE DATE: August 1, 2021.

ESTIMATED CHARGE EXPIRATION DATE: September 1, 2027.

CLASS OF AIR CARRIERS NOT REQUIRED TO COLLECT PFC'S: None.

BRIEF DESCRIPTION OF PROJECTS APPROVED FOR COLLECTION AND USE:

Rehabilitate terminal apron.

Acquire snow removal equipment.

Acquire glycol recovery vehicle.

Improve terminal building—heating, ventilation, and air conditioning system upgrade.

Improve terminal building—passenger security exit lane renovation.

Improve terminal building—restroom renovations.

Improve terminal building—flight information display/paging system.

Acquire security equipment.

Passenger loading bridges.

DECISION DATE: October 3, 2013.

FOR FURTHER INFORMATION CONTACT: Jeffrey Breeden, New York Airports District Office, (703) 661-1363.

PUBLIC AGENCY: City of St. George, Utah.

APPLICATION NUMBER: 14-05-C-00-SGU.

APPLICATION TYPE: Impose and use a PFC.

PFC LEVEL: $4.50.

TOTAL PFC REVENUE APPROVED IN THIS DECISION: $250,000.

EARLIEST CHARGE EFFECTIVE DATE: January 1, 2016.

ESTIMATED CHARGE EXPIRATION DATE: June 1, 2017.

CLASS OF AIR CARRIERS NOT REQUIRED TO COLLECT PFC'S:

None.

BRIEF DESCRIPTION OF PROJECT APPROVED FOR COLLECTION AND USE: Airport movement area pavement preservation.

DECISION DATE: June 11, 2014.

FOR FURTHER INFORMATION CONTACT: Jesse Lyman, Denver Airports District Office, (303) 342-1262.

PUBLIC AGENCY: Rhode Island Airport Corporation, Warwick, Rhode Island.

APPLICATION NUMBER: 14-07-C-00-PVD.

APPLICATION TYPE: Impose and use a PFC.

PFC LEVEL: $4.50.

TOTAL PFC REVENUE APPROVED IN THIS DECISION: $78,377,045.

CHARGE EFFECTIVE DATE: August 1, 2018.

CHARGE EXPIRATION DATE: July 1, 2028.

CLASS OF AIR CARRIERS NOT REQUIRED TO COLLECT PFC'S: Air taxi/commercial operators.

DETERMINATION: Approved. Based on information submitted in the public agency's application, the FAA has determined that the proposed class accounts for less than 1 percent of the total annual enplanements at T. F. Green Airport.

BRIEF DESCRIPTION OF PROJECTS APPROVED FOR COLLECTION AND USE:

Extend runway 5/23.

Noise mitigation program.

Runway 16/34 safety area.

Hangar 1 demolition.

PFC consulting fees.

DECISION DATE: June 19, 2014.

FOR FURTHER INFORMATION CONTACT: Priscilla Scott, New England Region Airports Division, (781) 238-7614.

Amendments to PFC Approvals
Amendment No. city, state | Amendment approved date | Original approved net PFC revenue | Amended approved net PFC revenue | Original estimated charge exp. date | Amended estimated charge exp. date
08-05-C-02-RAP, Rapid City, SD | 06/02/14 | $1,048,782 | $1,042,422 | 10/01/09 | 03/01/09
05-05-C-04-MCI, Kansas City, MO | 06/26/14 | 31,070,953 | 31,070,953 | 07/01/16 | 05/01/18
06-06-C-02-GEG, Spokane, WA | 06/26/14 | 33,574,266 | 33,210,822 | 08/01/12 | 04/01/12

Issued in Washington, DC, on June 30, 2014.
Joe Hebert,
Manager, Financial Analysis and Passenger Facility Charge Branch.

[FR Doc. 2014-15924 Filed 7-7-14; 8:45 am]

BILLING CODE 4910-13-P